DEPARTMENT OF ENERGY

Leveraging Existing Bioenergy Data Workshop

AGENCY: Office of Energy Efficiency and Renewable Energy, Department of Energy.

ACTION: Notice of online public workshop.

SUMMARY: The Department of Energy (DOE) is announcing an online public workshop entitled, “Leveraging Existing Bioenergy Data Workshop.” The Bioenergy Technologies Office (BETO) seeks to discuss how to collect and valorize underused datasets and associated knowledge, with the future goal of making this information public on existing databases.

DATES: The workshop will be held online on July 21, 2020, 12:30 p.m.—5:00 p.m. EDT, July 22, 2020, 10:00 a.m.—5:00 p.m. EDT, and July 23, 2020 12:30 p.m.—5:00 p.m. EDT. To attend the workshop, you must register by July 14, 2020. Those who are unable to attend the workshop but wish to submit comments may submit comments by email to eere_bioenergy@ee.doe.gov on or before August 14, 2020.

ADDRESSES: Register for the workshop online at https://www.energy.gov/eere/bioenergy/events/leveraging-existing-bioenergy-data-workshop. This event is open to the public but advance registration is required. The workshop will be held online. Login details will be sent following registration.

Comments may be submitted by the following methods:

Email: eere_bioenergy@ee.doe.gov. Include “Leveraging Existing Bioenergy Data Workshop” in the subject line of the message.

Postal Mail: Elizabeth Burrows, Bioenergy Technologies Office, EE-3B/Forrestal Building, U.S. Department of Energy, 1000 Independence Avenue SW, Washington, DC 20585. Due to potential delays in DOE's receipt and processing of mail sent through the U.S. Postal Service, DOE encourages respondents to submit comments electronically to ensure timely receipt.

FOR FURTHER INFORMATION CONTACT: Elizabeth Burrows, Bioenergy Technologies Office, EE-3B/Forrestal Building, U.S. Department of Energy, 1000 Independence Avenue SW, Washington, DC 20585; (202) 586-5188; Email: eere_bioenergy@ee.doe.gov.

SUPPLEMENTARY INFORMATION:

Purpose of the Meeting

BETO seeks to gather input on how to collect and valorize underused datasets and associated knowledge, with the goal of making this information public on existing databases. This workshop seeks to connect industry scientists, data owners, and lawyers with federal government, academic, and national laboratory representatives to shepherd valuable datasets and other knowledge to be used to maximum benefit. This effort would bolster the growing bioeconomy with industrially-relevant data across the supply chain, and result in accelerated development and utilization of biotechnologies. BETO intends to cover the following topics at the workshop:

• Existing Data Quantity/Quality

• Data Monetization & Valuation

• Data Acquisition

Public Participation

Members of the public are welcome to register and attend the workshop. To attend the workshop, register online through the workshop web page at https://www.energy.gov/eere/bioenergy/events/leveraging-existing-bioenergy-data-workshopbyJuly14, 2020. Workshop attendees will have the opportunity to speak for up to five minutes and share up to three slides relevant to the workshop topic. Attendees interested in presenting should email their slides to Dr. Elizabeth Burrows at Elizabeth.Burrows@ee.doe.gov by July 6, 2020. Submission does not guarantee a live presentation spot. Participation is subject to available time and topic relevancy. DOE will also accept public comments as described in ADDRESSES for purposes of developing the Bioenergy Technologies Office portfolio, but will not respond individually to comments received.

Participants should limit information and comments to those based on personal experience, individual advice, information, or facts regarding this topic. It is not the object of this session to obtain any group position or consensus from the meeting participants. To most effectively use the limited time, please concentrate on your individual experiences and comments, and not those of other participants.

Information on Services for Individuals With Disabilities

Individuals requiring special accommodations during the meeting, please contact Elizabeth Burrows no later than the close of business on July 6, 2020. The registration page, available at https://www.energy.gov/eere/bioenergy/events/leveraging-existing-bioenergy-data-workshop, also includes a field where individuals may indicate any special needs. Please indicate any accommodations required in this field.

Confidential Business Information

According to 10 CFR 1004.11, any person submitting information that he or she believes to be confidential and exempt by law from public disclosure should submit via email, postal mail, or hand delivery two well-marked copies: One copy of the document marked confidential including all the information believed to be confidential, and one copy of the document marked non-confidential with the information believed to be confidential deleted. Submit these documents via email or on a CD, if feasible. DOE will make its own determination about the confidential status of the information and treat it according to its determination.

Signing Authority

This document of the Department of Energy was signed on May 28, 2020, by Michael Berube, Acting Director of the Bioenergy Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 10, 2020.
Treena V. Garrett,
Federal Register Liaison Officer, U.S. Department of Energy.

[FR Doc. 2020-12855 Filed 6-12-20; 8:45 am]

BILLING CODE 6450-01-P